DEPARTMENT OF ENERGY

Federal Energy Regulatory Commission

[Docket No. CP23-501-000]

Port Arthur LNG, LLC, PALNG Common Facilities Company, LLC; Notice of Revised Schedule for Environmental Review of the Port Arthur Liquified Natural Gas Amendment

This notice identifies the Federal Energy Regulatory Commission (Commission or FERC) staff's revised schedule for the completion of the environmental assessment (EA) for Port Arthur LNG, LLC's and PALNG Common Facilities Company, LLC's (collectively, PALNG) Port Arthur Liquified Natural Gas Amendment. The first notice of schedule, issued on August 30, 2023, identified December 19, 2023 as the EA issuance date. However, changes to the amendment scope by PALNG and deficient responses to environmental and engineering data requests precluded FERC staff from completing the environmental review by the EA issuance date.¹ As a result, staff has revised the schedule for issuance of the EA.

¹ On November 15, 2023, the Commission issued an environmental information request to PALNG requesting additional information needed to complete the environmental review for the amendment. The request stated that a schedule change was necessary for the issuance of the EA based on changes to the amendment scope identified in information provided by PALNG on November 6 and November 13, 2023. FERC staff also stated that a revised notice of schedule would be issued once the information needs identified in the environmental information request are reviewed for completeness to issue the EA.

Schedule for Environmental Review

Issuance of EA—March 15, 2024

90-day Federal Authorization Decision Deadline ²—June 13, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, an additional notice will be provided so that the relevant agencies are kept informed of the amendment's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the amendment is available from the Commission's Office of External Affairs at (866) 208-FERC or on the FERC website (www.ferc.gov). Using the “eLibrary” link, select “General Search” from the eLibrary menu, enter the selected date range and “Docket Number” (i.e., CP23-501), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 5, 2024.
Debbie-Anne A. Reese,
Acting Secretary.

[FR Doc. 2024-00427 Filed 1-10-24; 8:45 am]

BILLING CODE 6717-01-P